DEPARTMENT OF LABOR

Employment and Training Administration

[TA-W-62,308]

Robertshaw Controls Company, a Division of Invensys Controls, Including On-Site Leased Workers From VOLT Services, Long Beach, CA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on November 7, 2007, applicable to workers of Robertshaw Controls Company, a division of Invensys Controls, Long Beach, California. The notice was published in the Federal Register on November 21, 2007 (72 FR 65607).

At the request of the State agency, the Department reviewed the certification for workers of the subject firm. The workers were engaged in the production of gas valve components.

New information shows that leased workers of Volt Services were employed on-site at the Long Beach, California location of Robertshaw Controls Company, a division of Invensys Controls.

The Department has determined that these workers were sufficiently under the control of the subject firm to be considered leased workers.

Based on these findings, the Department is amending this certification to include leased workers of Volt Services working on-site at the Long Beach, California location of the subject firm.

The intent of the Department's certification is to include all workers employed at Robertshaw Controls Company, a division of Invensys Controls who were adversely affected by a shift in production of gas valve components to Mexico.

The amended notice applicable to TA-W-62,308 is hereby issued as follows:

All workers of Robertshaw Controls Company, a division of Invensys Controls, including on-site leased workers from Volt Services, Long Beach, California, who became totally or partially separated from employment on or after October 2, 2006, through November 9, 2009, are eligible to apply for adjustment assistance under Section 223 of the Trade Act of 1974, and are also eligible to apply for alternative trade adjustment assistance under Section 246 of the Trade Act of 1974.

Signed at Washington, DC, this 20th day of August 2008.
Richard Church,
Certifying Officer, Division of Trade Adjustment Assistance.

[FR Doc. E8-20041 Filed 8-28-08; 8:45 am]

BILLING CODE 4510-FN-P